DEPARTMENT OF TRANSPORTATION

Pipeline and Hazardous Materials Safety Administration

[Docket No. PHMSA-2011-0063]

Pipeline Safety: Request for Special Permit

AGENCY: Pipeline and Hazardous Materials Safety Administration (PHMSA); Department of Transportation (DOT).

ACTION: Notice.

SUMMARY: Pursuant to the Federal pipeline safety laws, PHMSA is re-publishing this notice to clarify the particulars of a special permit request we have received from the Belle Fourche Pipeline Company (Belle Fourche). Belle Fourche is seeking relief from compliance with certain requirements in the Federal pipeline safety regulations. This notice seeks public comments on this request, including comments on any safety or environmental impacts. At the conclusion of the 30-day comment period, PHMSA will evaluate the request and determine whether to grant or deny a special permit.

DATES: Submit any comments regarding these special permit requests by June 8, 2011.

ADDRESSES: Comments should reference the docket number for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: Docket Management System: U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at 202-366-0113, or e-mail at kay.mciver@dot.gov.

Technical: Steve Nanney by telephone at 713-628-7479, or e-mail at Steve.Nanney@dot.gov.

SUPPLEMENTARY INFORMATION:

PHMSA has received a request for a special permit from the Belle Fourche Pipeline Company. Belle Fourche seeks relief from compliance with certain pipeline safety regulations. The request includes a technical analysis provided by the operator. The request has been filed at http://www.Regulations.gov, and assigned a separate docket number, PHMSA-2010-0300. We invite interested persons to participate by reviewing this special permit request at http://www.Regulations.gov, and by submitting written comments, data, or other views. Please include any comments on potential environmental impacts that may result if this special permit is granted.

Before acting on this special permit request, PHMSA will evaluate all comments received on or before the 30-day comment period closing date. Comments will be evaluated after this date if it is possible to do so without incurring additional expense or delay. PHMSA will consider each relevant comment we receive in making our decision to grant or deny a request.

PHMSA has received the following special permit request:

Docket No. | Requester | Regulation(s) affected | Nature of special permit
PHMSA-2010-0300 | Belle Fourche | 49 CFR 195.106, 195.112(a)(b), 195.120, 195.200, 195.406(a)(1), and 195.653 | To authorize Belle Fourche an exemption from certain requirements in Subpart A, Subpart C, and Subpart H of 49 CFR Part 195. Belle Fourche seeks exception in two general categories: First for permission to allow flexible steel pipe in Federally regulated service, and second, to adopt the use of requirements and standards appropriate for flexible steel pipes. Belle Fourche further seeks permission to install 4-inch FlexSteel™ pipe into existing 6-inch out-of-service pipelines where feasible. Due to size restrictions, Belle Fourche would not be able to insert the FlexSteel into the 4-inch steel pipe, but proposes to do so along some of the proposed route where there is out-of-service 6-inch steel that would accommodate insertion. Belle Fourche is proposing approximately 14 miles of insertion. This project is for the transport of diesel fuel from Belle Fourche's Hawk Point station to the Arch Coal Mine diesel tank in Campbell County, Wyoming.

Authority: 49 U.S.C. 60118 (c)(1) and 49 CFR 1.53.

Issued in Washington, DC on May 2, 2011.
Jeffrey D. Wiese,
Associate Administrator for Pipeline Safety.

[FR Doc. 2011-11172 Filed 5-6-11; 8:45 am]

BILLING CODE 4910-60-P